DEPARTMENT OF COMMERCE

National Oceanic and Atmospheric Administration

RIN 0648-XF643

Pacific Fishery Management Council; Public Meetings

AGENCY: National Marine Fisheries Service, National Oceanic and Atmospheric Administration, Commerce.

ACTION: Notice of public meetings.

SUMMARY: The Pacific Fishery Management Council (Pacific Council) and its advisory entities will hold public meetings.

DATES: The Pacific Council and its advisory entities will meet September 11-18, 2017. The Pacific Council meeting will begin on Wednesday, September 13, 2017 at 9 a.m. Pacific Daylight Time (PDT), reconvening at 8 a.m. each day through Monday, September 18, 2017. All meetings are open to the public, except a closed session will be held from 8 a.m. to 9 a.m., Wednesday, September 13 to address litigation and personnel matters. The Pacific Council will meet as late as necessary each day to complete its scheduled business.

ADDRESSES: Meetings of the Pacific Council and its advisory entities will be held at the Riverside Hotel, 2900 Chinden Blvd., Boise, ID; telephone: (208) 343-1871.

Council address: Pacific Fishery Management Council, 7700 NE Ambassador Place, Suite 101, Portland, OR 97220. Instructions for attending the meeting via live stream broadcast are given under SUPPLEMENTARY INFORMATION, below.

FOR FURTHER INFORMATION CONTACT: Mr. Chuck Tracy, Executive Director; telephone: (503) 820-2280 or (866) 806-7204 toll-free; or access the Pacific Council Web site, http://www.pcouncil.org for the current meeting location, proposed agenda, and meeting briefing materials.

SUPPLEMENTARY INFORMATION: The September 11-18, 2017 meeting of the Pacific Council will be streamed live on the internet. The broadcasts begin initially at 9 a.m. PDT Wednesday, September, 2017 and continue at 8 a.m. daily through Monday, September 18, 2017. Broadcasts end daily at 6 p.m. PDT or when business for the day is complete. Only the audio portion and presentations displayed on the screen at the Pacific Council meeting will be broadcast. The audio portion is listen-only; you will be unable to speak to the Pacific Council via the broadcast. To access the meeting online please use the following link: http://www.gotomeeting.com/online/webinar/join-webinar and enter the September Webinar ID, 897-986-459, and your email address. You can attend the webinar online using a computer, tablet, or smart phone, using the GoToMeeting application. It is recommended that you use a computer headset to listen to the meeting, but you may use your telephone for the audio-only portion of the meeting. The audio portion may be attended using a telephone by dialing the toll number 1-562-247-8422 (not a toll-free number), audio access code 862-846-290, and entering the audio pin shown after joining the webinar.

The following items are on the Pacific Council agenda, but not necessarily in this order. Agenda items noted as “Final Action” refer to actions requiring the Council to transmit a proposed fishery management plan, proposed plan amendment, or proposed regulations to the U.S. Secretary of Commerce, under Sections 304 or 305 of the Magnuson-Stevens Fishery Conservation and Management Act. Additional detail on agenda items, Council action, advisory entity meeting times, and meeting rooms are described in Agenda Item A.5, Proposed Council Meeting Agenda, and will be in the advance September 2017 briefing materials and posted on the Pacific Council Web site at www.pcouncil.org no later than August 25, 2017.

A. Call to Order

1. Opening Remarks

2. Council Member Appointments

3. Roll Call

4. Executive Director's Report

5. Approve Agenda

B. Open Comment Period

1. Comments on Non-Agenda Items

C. Coastal Pelagic Species Management

1. Acoustic Trawl Survey Methodology Review Terms of Reference

D. Habitat

1. Current Habitat Issues

E. Groundfish Management

1. National Marine Fisheries Service Report

2. Off-Year Science Improvements

3. Stock Assessment Methodology Review

4. Coastwide Non-whiting Midwater Trawl Exempted Fishing Permit (EFP) Final Action and Gear Modification EFP Review

5. Flexibility in Annual Catch Limit Management Response, Scoping

6. Electronic Monitoring—Preliminary Pacific Halibut Discard Mortality Rates and Third-Party Review

7. Trawl Catch Share Review, Preliminary Range of Follow-On Actions, and Intersector Allocation

8. Adopt Final Stock Assessments

9. Initial Harvest Specifications and Management Measure Actions for 2019-2020 Management

10. Final Actions on Inseason Adjustments

F. Salmon Management

1. Methodology Review Final Topic Selection

2. Sacramento River Winter Chinook Control Rule, Preliminary Recommendations

G. Pacific Halibut Management

1. 2018 and Beyond Catch Sharing Plan and Annual Regulation Changes

H. Administrative Matters

1. Legislative Matters

2. Fiscal Matters

3. Approval of Council Meeting Record

4. Membership Appointments and Council Operating Procedures

5. Future Council Meeting Agenda and Workload Planning

I. Ecosystem-Based Management

1. Climate Vulnerability Assessment Report

2. Fishery Ecosystem Plan Initiatives: Scoping and Selection

J. Highly Migratory Species Management

1. National Marine Fisheries Service Report

2. Swordfish Management Project Planning

3. Recommendations for International Management Activities

4. Fishery Management Plan Amendment 4: Status Determination Criteria Final Action

5. Proposed Deep-Set Buoy Gear Exempted Fishing Permits

6. Authorization of Deep-Set Buoy Gear and Federal Permitting

Advisory Body Agendas

Advisory body agendas will include discussions of relevant issues that are on the Pacific Council agenda for this meeting, and may also include issues that may be relevant to future Council meetings. Proposed advisory body agendas for this meeting will be available on the Pacific Council Web site http://www.pcouncil.org/council-operations/council-meetings/current-briefing-book/ no later than Friday, August 25, 2017.

Schedule of Ancillary Meetings

Day 1—Monday, September 11, 2017

Scientific and Statistical Committee Ecosystem Subcommittee 10 a.m.

Day 2—Tuesday, September 12, 2017

Ecosystem Advisory Subpanel 8 a.m.

Groundfish Advisory Subpanel 8 a.m.

Groundfish Management Team 8 a.m.

Habitat Committee 8 a.m.

Sacramento River Winter Chinook Workgroup 8 a.m.

Salmon Advisory Subpanel 8 a.m.

Scientific and Statistical Committee 8 a.m.

Legislative Committee 1 p.m.

Budget Committee 2:30 a.m.

Day 3—Wednesday, September 13, 2017

California State Delegation 7 a.m.

Oregon State Delegation 7 a.m.

Washington State Delegation 7 a.m.

Ecosystem Advisory Subpanel 8 a.m.

Ecosystem Workgroup 8 a.m.

Groundfish Advisory Subpanel 8 a.m.

Groundfish Management Team 8 a.m.

Sacramento River Winter Chinook Workgroup 8 a.m.

Salmon Advisory Subpanel 8 a.m.

Scientific and Statistical Committee 8 a.m.

Enforcement Consultants 3 p.m.

Day 4—Thursday, September 14, 2017

California State Delegation 7 a.m.

Oregon State Delegation 7 a.m.

Washington State Delegation 7 a.m.

Ecosystem Advisory Subpanel 8 a.m.

Ecosystem Workgroup 8 a.m.

Groundfish Advisory Subpanel 8 a.m.

Groundfish Management Team 8 a.m.

Highly Migratory Species Advisory Subpanel 8 a.m.

Highly Migratory Species Management Team 8 a.m.

Scientific and Statistical Committee Ecosystem Subcommittee 8 a.m.

Enforcement Consultants Ad Hoc

Groundfish Stock Assessment Presentation/Q & A 7:30 p.m.

Day 5—Friday, September 15, 2017

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants Ad Hoc

Day 6—Saturday, September 16, 2017

California State Delegation 7 a.m.

Oregon State Delegation 7 a.m.

Washington State Delegation 7 a.m.

Groundfish Advisory Subpanel 8 a.m.

Groundfish Management Team 8 a.m.

Highly Migratory Species Advisory Subpanel 8 a.m.

Highly Migratory Species Management Team 8 a.m.

Enforcement Consultants Ad Hoc

Day 7—Sunday, September 17, 2017

California State Delegation 7 a.m.

Oregon State Delegation 7 a.m.

Washington State Delegation 7 a.m.

Groundfish Advisory Subpanel 8 a.m.

Groundfish Management Team 8 a.m.

Enforcement Consultants Ad Hoc

Day 8—Monday, September 18, 2017

California State Delegation 7 a.m.

Oregon State Delegation 7 a.m.

Washington State Delegation 7 a.m.

Although non-emergency issues not contained in this agenda may come before the Pacific Council for discussion, those issues may not be the subject of formal Council action during this meeting. Council action will be restricted to those issues specifically listed in this notice and any issues arising after publication of this notice that require emergency action under Section 305(c) of the Magnuson-Stevens Fishery Conservation and Management Act, provided the public has been notified of the Pacific Council's intent to take final action to address the emergency.

Special Accommodations

These meetings are physically accessible to people with disabilities. Requests for sign language interpretation or other auxiliary aids should be directed to Mr. Kris Kleinschmidt at (503) 820-2280, ext. 411 at least 10 business days prior to the meeting date.

Dated: August 24, 2017.
Tracey L. Thompson,
Acting Deputy Director, Office of Sustainable Fisheries, National Marine Fisheries Service.

[FR Doc. 2017-18277 Filed 8-24-17; 4:15 pm]

BILLING CODE 3510-22-P